DEPARTMENT OF ENERGY

Federal Energy Regulatory Commission

[Docket No. CP20-55-000]

Port Arthur LNG Phase II, LLC, PALNG Common Facilities Company, LLC; Notice of Schedule for Environmental Review of the Port Arthur LNG Expansion Project

On February 19, 2020, Port Arthur LNG Phase II, LLC (PALNG-II) and PALNG Common Facilities Company, LLC (PCFC) filed an application in Docket No. CP20-55-000 requesting authorization pursuant to section 3 of the Natural Gas Act to construct and operate new natural gas liquefaction facilities. The proposed project is known as the Expansion Project (Project) and would add a total of approximately 13.5 million tonnes per annum (MTPA) of liquefaction capacity for export overseas at the Port Arthur LNG Liquefaction Terminal authorized under Docket No. CP17-20-000.

On March 4, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 15, 2021

90-Day Federal Authorization Decision Deadline—April 15, 2021

If a schedule change becomes necessary, additional notice will be provided so that the relevant agencies are kept informed of the Project's progress.

Project Description

The Expansion Project would be located on approximately 900 acres near the City of Port Arthur in Jefferson County, Texas, entirely within the previously authorized Port Arthur LNG Liquefaction Terminal site. The Project would include two new liquefaction trains (Trains 3 and 4), each with its own gas treatment facilities and capable of producing 6.73 MTPA; and associated utilities and infrastructure related to Trains 3 and 4.

Background

On June 25, 2019, the Commission staff granted PALNG-II and PCFC's request to use the FERC's Pre-filing environmental review process and assigned the Expansion Project Docket No. PF19-5. On October 1, 2019, the Commission issued a Notice of Intent to Prepare an Environmental Assessment Statement for the Planned Port Arthur LNG Expansion Project, and Request for Comments on Environmental Issues (NOI). The NOI was issued during the pre-filing review of the Project in Docket No. PF19-5 and sent to affected landowners; federal, state, and local government agencies; elected officials; and other interested parties. In response to the NOI, comments were received from the Texas Historical Commission and the Sabine Center for Climate Change Law, All substantive comments will be addressed in the EA.

The U.S. Department of Transportation's Pipeline and Hazardous Materials Safety Administration and U.S. Department of Energy are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-55), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 17, 2020.
Kimberly D. Bose,
Secretary.

[FR Doc. 2020-08630 Filed 4-22-20; 8:45 am]

BILLING CODE 6717-01-P